ELECTION ASSISTANCE COMMISSION

Publication of State Plans Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by Virginia.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual States at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates.

The submission from Virginia addresses a material change to the administration of their previously submitted State plan, specifically how the State will meet the voting system standards in HAVA section 301(a). The document also provides information on how the State succeeded in carrying out the previous State plan, in accordance with HAVA section 254(a)(12).

Upon the expiration of thirty days from September 12, 2005, Virginia will be eligible to implement the material change addressed in the plan that is published herein, in accordance with HAVA section 254(a)(11)(C).

EAC notes that the plan published herein has already met the notice and comment requirements of HAVA section 256, as required by HAVA section 254(a)(11)(B). EAC wishes to acknowledge the effort that went into revising the State plans and encourages further public comment, in writing, to the State election official of the individual States listed below.

Chief State Election Officials

Virginia

Ms. Jean R. Jensen, Secretary, State Board of Elections, 200 North 9th Street, Suite 101, Richmond, VA 23219, Phone: 804-864-8901, Fax: 804-371-0194, E-mail: HAVA@sbe.virginia.gov.

Thank you for your interest in improving the voting process in America.

Dated: September 6, 2005.
Gracia M. Hillman,
Chair, U.S. Election Assistance Commission.

BILLING CODE 6820-KF-P

[FR Doc. 05-18011 Filed 9-9-05; 8:45 am]

BILLING CODE 6820-KF-C